DEPARTMENT OF COMMERCE

National Institute of Standards and Technology

2023 Fall Meetings of the Regional Weights and Measures Associations

AGENCY: National Institute of Standards and Technology, Commerce.

ACTION: Notice.

SUMMARY: The fall 2023 meetings of the regional weights and measures associations will be held in September and October 2023. The Central Weights and Measures Association (CWMA) Interim meeting will be held September 11-14, 2023, in Dubuque, Iowa; the Western Weights and Measures Association (WWMA) Annual meeting will be held September 17-21, 2023, in Sparks, Nevada; the Southern Weights and Measures Association (SWMA) Annual meeting will be held October 8-11, 2023 in Annapolis, Maryland; and the Northeastern Weights and Measures Association (NEWMA) Interim meeting will be held October 16-19, 2023, in Norwich, Connecticut. This notice contains information about significant items on the committee agendas of the four regional weights and measures associations but does not include all agenda items. As a result, the items are not consecutively numbered.

DATES: The CWMA Interim meeting will be held September 11-14, 2023, and the meeting schedule will be available on the CWMA website at https://www.cwma.net/events. The WWMA Annual meeting will be held September 17-21, 2023, and the meeting schedule will be available on the WWMA website at https://westernwma.org/events. The SWMA Annual meeting will be held October 8-11, 2023, and the meeting schedule will be available on the SWMA website at https://www.swma.org/events. The NEWMA Interim meeting will be held October 16-19, 2023, and the meeting schedule will be available on the NEWMA website at https://newma.us/page-1075185.

ADDRESSES: The CWMA Interim meeting will be held in Dubuque, Iowa, with registration and other meeting details available on the CWMA website at https://www.cwma.net/events. The WWMA Annual meeting will be held in Sparks, Nevada, with registration and other meeting details available on the WWMA website at https://westernwma.org/events. The SWMA Annual meeting will be held in Annapolis, Maryland, with registration and other meeting details on the SWMA website at https://www.swma.org/events. The NEWMA Interim meeting will be held in Norwich, Connecticut, with registration and other meeting details available on the NEWMA website at https://newma.us/page-1075185.

FOR FURTHER INFORMATION CONTACT: Dr. Katrice Lippa, NIST, Office of Weights and Measures, 100 Bureau Drive, Stop 2600, Gaithersburg, MD 20899-2600. You may also contact Dr. Lippa at (301) 975-3116 or by email at katrice.lippa@nist.gov. The meetings are open to the public, but the payment of a registration fee is required. Please see the individual websites of the regional weights and measures associations to view the meeting agendas, registration forms, and hotel reservation information.

Background Information: Publication of this notice on behalf of the regional weights and measures associations is undertaken as a public service and does not itself constitute an endorsement by the National Institute of Standards and Technology (NIST) of the content of the notice. NIST participates in the regional weights and measures associations pursuant to 15 U.S.C. 272(b)(10) and (c)(4) and in accordance with Federal policy (e.g., OMB Circular A-119 “Federal Participation in the Development and Use of Voluntary Consensus Standards”).

The regional weights and measures associations are organizations of weights and measures officials of the states, counties, and cities representing four regions (Central, Western, Southern, and Northeast) of the United States, and include representatives from the private sector and federal agencies. These meetings bring together government officials and representatives of business, industry, trade associations, and consumer organizations on subjects related to the field of weights and measures technology, administration, and enforcement. The regional weights and measures associations operate Standing Committees to conduct open hearings on new items and for all carryover items from the preceding 2023 Annual Meeting of the National Conference on Weights and Measures (NCWM). The regional meetings provide a forum for the further development of regional consensus for these items and serve as the gateway for moving any new items onto the national agenda of the NCWM.

NIST also participates in the regional weights and measures associations providing technical insight and to encourage cooperation between the private sector, federal agencies, and the states in the development of legal metrology requirements. NIST also promotes uniformity in state laws, regulations, and testing procedures used in the regulatory control of commercial weighing and measuring devices, packaged goods, and for other trade and commerce issues.

Comments will be taken by the respective standing committees in each region on agenda items during the open hearing portion of the regional weights and measures association meetings. The committees then deliberate on these comments which are used to develop recommendations to be forwarded to the national-level standing committees of the NCWM. The sessions are open to registered attendees of the regional weights and measures association meetings and can include both association members and non-members that represent a range of stakeholder groups. These recommendations are intended to amend NIST Handbook 44, “Specifications, Tolerances, and other Technical Requirements for Weighing and Measuring Devices” (NIST HB 44), NIST Handbook 130, “Uniform Laws and Regulations in the areas of Legal Metrology and Fuel Quality” (NIST HB 130), and NIST Handbook 133 Checking the Net Contents of Packaged Goods (NIST HB 133). These NIST Handbooks are regularly adopted by states either by reference or through their administrative procedures.

The following are brief descriptions of some of the significant agenda items that will receive further consideration by the Standing Committees at the upcoming regional weights and measures associations meetings. Comments will be taken on these and other issues during several public comment sessions. At this stage, the items are proposals.

These notices are intended to make interested parties aware of these development projects and to make them aware that reports on the status of the project will be given at the January 2024 NCWM Interim Meeting. The notices are also presented to invite the participation of manufacturers, experts, consumers, users, and others who may be interested in these efforts.

Detailed Information: The Specifications and Tolerances (S&T) Committee of each of the regional weights and measures associations will consider proposed amendments to NIST HB 44. Those items address weighing and measuring devices used in commercial or law enforcement applications or for the collection of statistical information by government agencies. The following items are proposals to amend NIST HB 44:

WIM—Weigh-In-Motion Systems

WIM-23.1. Remove Tentative Status and Amend Numerous Sections Throughout. The S&T Committees will consider a proposal to convert the current Tentative Code of Section 2.25 Weigh-In-Motion Systems Used for Vehicle Enforcement Screening to Permanent status and to expand the code to include “and Enforcement”. This also includes (but is not limited to): (1) the addition of an Accuracy Class “E” WIM scale (in addition to Class A (classification applies to vehicles that will undergo screening)) in the specifications (S); (2) the addition of test procedures to address the new Accuracy Class E (classification applies to vehicles that undergo enforcement activity) in the test procedures (N) section for the determination of test speeds, dynamic test loads, and vehicle positions; (3) the designation of more stringent tolerances (T) for Accuracy Class E as compared to those for Accuracy Class A and a designation noting Accuracy Class E tolerances are to be applied to WIM scales used for enforcement purposes; and (4) the addition of a Class E weighing application in the user requirements (UR) for the explicit enforcement of vehicles based on axle, axle group, and gross vehicle weights. Assessments during the 2022 regional weights and measures association meetings recommended a Developing status to allow the submitters to address questions raised regarding the application of tolerances and test procedures and allow input regarding the use of the code for enforcement purposes (rather than screening) from those jurisdictions impacted by the proposed change in scope and status as well as input from other scale manufacturers. The submitters provided a revised proposal to the NCWM following the release of the 2023 NCWM Publication 15. At the 2023 NCWM Annual Meeting, the NCWM S&T Committee updated the item with the most recent version in the carryover report. This latest version has an Informational status and the item will be further discussed and assessed at the fall 2023 regional weights and measures association meetings.

EVF—Electric Vehicle Fueling Systems

EVF 23.4. This proposal submitted by Power Measurements, LLC is intended to update the existing required tests in NIST HB 44 (Section 3.40. Electric Vehicle Fueling Systems) specified for use to determine the accuracy of alternating current (AC) and direct current (DC) systems. The proposal has a Developing status and will expand the number of test points over a specific range of operating conditions for the test of an electric vehicle supply equipment (EVSE) system. The NIST United States National Work Group on Measuring Systems for Electric Vehicle Fueling and Submetering: Electric Vehicle Fueling Equipment Subgroup has also kept the Submitter and NCWM S&T Committee apprised of its ongoing work to develop a more suitable minimum set of test procedures to determine the performance of both AC and DC EVSE systems.

EVF 23.6. The proposal submitted by Florida Department of Agriculture and Consumer Services, Electrify America, Tesla, EVGo, and Siemens was revised by the NCWM S&T Committee after comments during the 2023 NCWM Interim and Annual Meetings. The proposal would amend NIST HB 44, Section 3.40 to require either a physical or digitally formatted marking of accuracy for DC systems meeting ± 5% accuracy requirements. The proposed dual tolerance structure that would permit the wider ± 5% accuracy tolerance is permitted up through 2034. It also includes revisions to acceptance and maintenance tolerances for DC fast charging (DCFC) EV chargers that will be based on the pre- or post-2024 installation and placed into service date of this equipment. The current NIST HB 44 enforcement date of January 1, 2028, for DC systems tolerances adopted in July 2022 remains in effect. The proposal was voted on at the 2023 NCWM Annual Meeting but did not receive enough votes to be adopted and was returned to the NCWM S&T Committee for further consideration and deliberation by stakeholders.

EVF 23.7. The proposal submitted by Electrify America has a Developing status and would amend NIST HB 44, Section 3.40 to establish a larger range of test points that are usable for performing the light load tests, remove the requirement that the load be determined either through the pilot signal (AC systems) or digital communication (DC systems), and add a new definition for the term maximum deliverable amperes which is the value that the NIST HB 44 test procedures use to establish the range of points where tests are performed to determine an electric vehicle fueling system's accuracy. The NCWM S&T Committee requested this proposal and Item EVF 23.4 be considered in the ongoing work to develop a more suitable single set of minimum of test procedures for use in determining the performance of both AC and DC EVSE systems.

LPG—Liquid Petroleum Gas and Anhydrous Ammonia Liquid-Measuring Devices

LPG—23.1 This proposal submitted by the National Propane Gas Association and U-Haul International addresses practical issues that propane retailers encounter when trying to comply with zero-set-back interlock requirements in NIST HB 44 for electronic stationary and electronic vehicle-mounted propane meters and stationary retail motor-fuel devices used to dispense propane. The intent of the proposal is to exempt the required use of zero-set-back interlock systems in a device used to both dispense liquified petroleum gas for use as a vehicle motor-fuel and in filling containers/cylinders for other than motor-fuel applications. The NCWM S&T Committee at the 2023 NCWM Annual Meeting downgraded the status of the item from Voting to Informational to allow more time to better understand how the proposed changes will impact stakeholders.

OTH—Other Items

OTH 16.1. The NIST United States National Work Group on Measuring Systems for Electric Vehicle Fueling and Submetering: Watthour-Type Electric Meters Subgroup has worked to develop a proposed comprehensive set of legal metrology requirements for electric watthour meters used in submeter applications in residences and businesses (not intended to address utility metering under the authority of entities such as the local utility commission). The NCWM S&T Committee downgraded the proposed new code under consideration at the 2023 NCWM Annual Meeting from a Voting status to Informational status following comments heard during open hearings. Current and new recommendations to language for this proposed new code will be heard at the fall 2023 regional weights and measures association meetings.

Alicia Chambers,
NIST Executive Secretariat.

[FR Doc. 2023-19650 Filed 9-11-23; 8:45 am]

BILLING CODE 3510-13-P